DEPARTMENT OF LABOR

48 CFR Part 2902

[DOL Docket No. DOL-2019-0002]

RIN 1291-AA42

Department of Labor Acquisition Regulations: Definitions for Head of Agency, Head of Contracting Activity, and Senior Procurement Executive

AGENCY: Office of the Assistant Secretary for Administration and Management, Department of Labor.

ACTION: Proposed rule; withdrawal.

SUMMARY: With this notice, the Department of Labor (Department) is withdrawing the proposed rule that accompanied its direct final rule (DFR) amending three definitions in the Department of Labor Acquisition Regulation (DOLAR) in order to provide the Secretary of Labor greater flexibility and a streamlined procedure to delegate procurement authority and appoint procurement officials.

DATES: The proposed rule published August 29, 2019 (84 FR 45456) is withdrawn as of November 15, 2019.

FOR FURTHER INFORMATION CONTACT:

Press inquiries: Ms. Megan P. Sweeney, Office of Public Affairs, Room No. S-2514, U.S. Department of Labor, 200 Constitution Ave. NW, Washington, DC 20210; telephone: (202) 693-4676; email: sweeney.megan.p@dol.gov.

General information: Herman J. Narcho, U.S. Department of Labor, Office of the Assistant Secretary for Administration and Management, Office of the Chief Procurement Officer, 200 Constitution Avenue NW, Room N-5305, Washington, DC 20210; telephone (202) 693-7171 (this is not a toll-free number).

SUPPLEMENTARY INFORMATION: On August 29, 2019, the Department published a proposed rule amending three DOLAR definitions found at 48 CFR 2902.101(b): Head of Agency, Head of Contracting Activity, and Senior Procurement Executive. The Department published a companion DFR rule proposing the same changes to the DOLAR definitions. In the DFR, the Department stated that it would withdraw the companion proposed rule and confirm the effective date of the DFR if no significant adverse comments were submitted on the DFR by September 30, 2019. The Department received no comments on the proposed rule. Accordingly, the Department is not proceeding with the proposed rule and is withdrawing it from the rulemaking process.

List of Subjects in 48 CFR Part 2902

Government procurement.

Bryan Slater,
Assistant Secretary for Administration and Management, Labor.

[FR Doc. 2019-24681 Filed 11-14-19; 8:45 am]

BILLING CODE 4510-04-P